DEPARTMENT OF EDUCATION

[Docket No.: ED-2016-ICCD-0104]

Agency Information Collection Activities; Comment Request; Measures and Methods for the National Reporting System for Adult Education

AGENCY: Department of Education (ED), Office of Career, Technical, and Adult Education (OCTAE)

ACTION: Notice.

SUMMARY: In accordance with the Paperwork Reduction Act of 1995 (44 U.S.C. chapter 3501 et seq.), ED is proposing an extension of an existing information collection.

DATES: Interested persons are invited to submit comments on or before November 28, 2016.

ADDRESSES: To access and review all the documents related to the information collection listed in this notice, please use http://www.regulations.gov by searching the Docket ID number ED-2016-ICCD-0104. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Room 2E-349, Washington, DC 20202-4537.

FOR FURTHER INFORMATION CONTACT: For specific questions related to collection activities, please contact John LeMaster, 202-245-6218.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Measures and Methods for the National Reporting System for Adult Education.

OMB Control Number: 1830-0027.

Type of Review: An extension of an existing information collection.

Respondents/Affected Public: State, Local, and Tribal Governments.

Total Estimated Number of Annual Responses: 57.

Total Estimated Number of Annual Burden Hours: 5,700.

Abstract: Title II of the Workforce Innovation and Opportunity Act of 2014 (WIOA—Pub. L. 113-128), entitled the Adult Education and Family Literacy Act (AEFLA), was enacted on July 22, 2014. AEFLA creates a partnership among the Federal government, States, and localities to provide, on a voluntary basis, adult education and literacy services. Section 116 of WIOA requires States and Local Areas that operate the six core programs of the workforce development system to comply with common performance accountability requirements for those programs. In addition to the WIOA Joint Performance ICR, ED's Office of Career, Technical, and Adult Education (OCTAE) has modified its previously-approved ICR, used by States for performance reporting under the Workforce Investment Act of 1998 (WIA) through the National Reporting System for Adult Education (NRS ICR), to conform to the new requirements under WIOA. The NRS ICR obtains aggregate data annually from States using a set of data tables developed by ED (OMB Control No. 1830-0027).

Through this proposal, the Department is submitting a revised NRS ICR to include additional data collection elements consistent with the WIOA performance accountability requirements for the AEFLA program. These new requirements will become effective July 1, 2017. Thus, for purposes of the AEFLA program, States will be required to complete and submit annually to OCTAE the WIOA Annual Statewide Performance Report Template (in the Joint Performance ICR) and the aggregate data tables in the revised NRS ICR under OMB Control No. 1830-0027.

This revised NRS ICR contains 17 tables, two of which are required only for States that offer distance education; one optional table; two financial reports; one narrative report; and one data quality checklist. These tables and report forms are included in the document titled “Adult Education and Family Literacy Act (AEFLA) Reporting Tables.” States include in the tables all participants in programs (1) that meet the purposes of AEFLA, and (2) for which expenditures are reported on the Federal Financial Report. In June 2016, OMB approved the data collection required by AEFLA (OMB 1830-0027) by approving non-substantive changes that conformed to the performance accountability requirements in WIOA section 116. OCTAE is requesting an extension of this approval, with proposed minor changes in order to obtain a more accurate reporting of participants served in the various AEFLA activities, services, and programs that support the purposes of AEFLA. These minor enhancements will increase the efficiency of the data collection process and ensure the quality of the data that States report.

Dated: September 22, 2016.
Tomakie Washington,
Acting Director, Information Collection Clearance Division, Office of the Chief Privacy Officer, Office of Management.

[FR Doc. 2016-23265 Filed 9-26-16; 8:45 am]

BILLING CODE 4000-01-P